FEDERAL ELECTION COMMISSION

Sunshine Act Notices

Date & Time: Monday, July 28, 2008 at 10 a.m.

Place: 999 E Street, NW., Washington, DC (Ninth Floor).

Status: This meeting will be open to the public.

Items to be Discussed

Correction and Approval of Minutes.

Draft Advisory Opinion 2007-33: Club for Growth PAC, by Carol A. Laham, Esq. and D. Mark Renaud, Esq.

Draft Advisory Opinion 2008-05: Holland & Knight, LLP, by Christopher DeLacy, Esq.

Management and Administrative Matters.

Person to Contact for Information: Robert Biersack, Press Officer Telephone: (202) 694-1220

Individuals who plan to attend and require special assistance, such as sign language interpretation or other reasonable accommodations, should contact Mary Dove, Commission Secretary, at (202) 694-1040, at least 72 hours prior to the hearing date.

Mary W. Dove,
Secretary of the Commission.

[FR Doc. E8-17012 Filed 7-24-08; 8:45 am]

BILLING CODE 6715-01-M